DEPARTMENT OF COMMERCE

National Oceanic and Atmospheric Administration

RTID 0648-XA223

Marine Mammals; File No. 21585

AGENCY: National Marine Fisheries Service (NMFS), National Oceanic and Atmospheric Administration (NOAA), Commerce.

ACTION: Notice; receipt of application for permit amendment.

SUMMARY: Notice is hereby given that Oregon State University, Marine Mammal Institute, 2030 Southeast Marine Science Drive, Newport, OR 97365 (Responsible Party: Bruce Mate, Ph.D.)., has applied for an amendment to Scientific Research Permit No. 21585.

DATES: Written, telefaxed, or email comments must be received on or before July 10, 2020.

ADDRESSES: The application and related documents are available for review by selecting “Records Open for Public Comment” from the “Features” box on the Applications and Permits for Protected Species (APPS) home page, https://apps.nmfs.noaa.gov, and then selecting File No. 21585 from the list of available applications. These documents are also available upon written request via email to NMFS.Pr1Comments@noaa.gov.

Written comments on this application should be submitted via email to NMFS.Pr1Comments@noaa.gov. Please include File No. 21585 in the subject line of the email comment. Alternatively, comments may be submitted by mail to the Chief, Permits and Conservation Division, Office of Protected Resources, NMFS, 1315 East-West Highway, Room 13705, Silver Spring, MD 20910; phone (301) 427-8401 or by facsimile to (301) 713-0376.

Those individuals requesting a public hearing should submit a written request via email to NMFS.Pr1Comments@noaa.gov or to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject amendment to Permit No. 21585 is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR parts 222-226), and the Fur Seal Act of 1966, as amended (16 U.S.C. 1151 et seq.).

Permit No. 21585, issued on December 20, 2018 (84 FR 4441, February 15, 2019), authorizes the permit holder to conduct research on 67 species of marine mammals including the following endangered or threatened species and stocks of cetaceans: Blue (Balaenoptera musculus), bowhead (Balaena mysticetes), Cook Inlet beluga (Delphinapterus leucas), fin (B. physalus), gray (Eschrichtius robustus), humpback (Megaptera novaeangliae), Main Hawaiian Islands insular false killer (Pseudorca crassidens), North Pacific right (Eubalaena japonica), sei (B. borealis), Southern Resident killer (Orcinus orca), Southern right (E. australis), and sperm (Physeter macrocephalus) whales. Authorized research may occur during vessel and manned aerial surveys for Level B harassment activities including observation, photography, passive acoustic recording, echosounders for prey mapping, and collection of sloughed skin. The permit also authorizes Level A harassment activities including biopsy sampling and deep-implant tagging. The permit holder is requesting the permit be amended to increase the permitted takes from 500 to 900 annually for the Level B harassment activities for humpback whales. No changes to the permitted objectives, methods, or Level A harassment activities are proposed. The permit expires on December 31, 2023.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 4, 2020.
Julia Marie Harrison,
Chief, Permits and Conservation Division, Office of Protected Resources, National Marine Fisheries Service.

[FR Doc. 2020-12497 Filed 6-9-20; 8:45 am]

BILLING CODE 3510-22-P